DEPARTMENT OF DEFENSE

Office of the Secretary

Defense Advisory Committee on Military Personnel Testing; Notice of Federal Advisory Committee Meeting

AGENCY: Under Secretary of Defense for Personnel and Readiness, Department of Defense (DoD).

ACTION: Notice of Federal Advisory Committee meeting.

SUMMARY: DoD is publishing this notice to announce that the following Federal Advisory Committee meeting of the Defense Advisory Committee on Military Personnel Testing will take place.

DATES: Day 1—Open to the public Thursday, September 17, 2020 from 12:00 p.m. to 5:00 p.m., Eastern Time.

Day 2—Open to the public Friday, September 18, 2020 from 12:00 p.m. to 5:00 p.m., Eastern Time.

ADDRESSES: Virtual, Microsoft Teams, Link https://teams.microsoft.com/l/meetup-join/19%3ameeting_YWEzYzI0OTctNWMzYS00M2NjLTlkNzYtN2I3NWJiZjRlZGVj%40thread.v2/0?context=%7b%22Tid%22%3a%22ca9c4d2f-3529-4c0f-b5ad-059f3b26b20c%22%2c%22Oid%22%3a%22223e7d39-62a6-4864-9b9d-3547a173a97f%22%7d, Dial-In: 1 571-429-6145, Conference-ID: 160 597 151#. Meeting details will be posted on: https://dacmpt.com.

FOR FURTHER INFORMATION CONTACT: Designated Federal Officer, Dr. Sofiya Velgach, 703-697-9271 (Voice), 703-614-9272 (Facsimile), osd.pentagon.ousd-p-r.mbx.dacmpt@mail.mil (Email). Mailing address is Designated Federal Officer, Accession Policy, Office of the Under Secretary of Defense for Personnel and Readiness, Room 3D1066, The Pentagon, Washington, DC 20301-4000.

SUPPLEMENTARY INFORMATION: This meeting is being held under the provisions of the Federal Advisory Committee Act (FACA) of 1972 (5 U.S.C., Appendix, as amended), the Government in the Sunshine Act of 1976 (5 U.S.C. 552b, as amended), and 41 Code of Federal Regulations (CFR) 102-3.140 and 102-3.150.

The agenda includes an overview of development timelines, test development strategies, test development status updates, and planned work and research.

Purpose of the Meeting: The purpose of the meeting is to review planned changes and progress in developing and administering selection and classification tests for military accession screening. Additional information can be found at https://dacmpt.com.

Agenda

Day 1, Thursday, September 17, 2020

12:00 p.m.-12:15 p.m., Welcome and Opening Remarks, Dr. Sofiya Velgach, OASD(M&RA)/AP*.

12:15 p.m.-12:30 p.m., Accession Policy Update, Ms. Stephanie Miller, OASD(M&RA)/Director, AP*.

12:30 p.m.-1:00 p.m., Milestones and Project Schedules, Dr. Mary Pommerich, OPA/DPAC*.

1:00 p.m.-1:15 p.m., Break.

1:15 p.m.-2:15 p.m., Device Evaluation Update and Future Use, Dr. Tia Fechter/Dr. Daniel Segall, OPA/DPAC*.

2:15 p.m.-2:45 p.m., ASVAB CEP* Update, Dr. Shannon Salyer, OPA/DPAC*.

2:45 p.m.-3:00 p.m., Break.

3:00 p.m.-3:45 p.m., CAT—ASVAB New Forms Update, Dr. Matt Trippe, HumRRO*.

3:45 p.m.-4:45 p.m., TAPAS* Evaluation Project Overview, Dr. Tim McGonigle, HumRRO*.

4:45 p.m.-5:00 p.m., Public Comment.

Day 2, Friday, September 18, 2020

12:00 p.m.-12:45 p.m., Use of Calculators, TBD.

12:45 p.m.-1:15 p.m., Complex Reasoning, Dr. Scott Oppler, HumRRO*.

1:15 p.m.-1:30 p.m., Break.

1:30 p.m.-2:30 p.m., Adverse Impact, Dr. Gregory Manley, OPA/DPAC*.

2:30 p.m.-4:00 p.m., Testing—Next Generation (Multi-Dimensional Evaluations and Future Vision), Dr. Mary Pommerich/Dr. Tia Fechter, OPA/DPAC*, Dr. Scott Oppler, HumRRO*.

4:00 p.m.-4:15 p.m., Break.

4:15 p.m.-4:30 p.m., Future Topics, Dr. Dan Segall, OPA/Director, DPAC*.

4:30 p.m.-4:45 p.m., Public Comment.

4:45 p.m.-5:00 p.m., Closing Comments, Dr. Michael Rodriguez, Chair.

Abbreviations key:

ASVAB = Armed Services Vocational Aptitude Battery

ASVAB CEP = ASVAB Career Exploration Program, provided free to high schools nation-wide to help students develop career exploration skills and used by recruiters to identify potential applicants for enlistment

HumRRO = Human Resources Research Organization

OASD(M&RA)/AP = Office of the Assistant Secretary of Defense (Manpower & Reserve Affairs)/Accession Policy

OPA/DPAC = Office of People Analytics/Defense Personnel Assessment Center

TAPAS = Tailored Adaptive Personality Assessment System

Meeting Accessibility: Pursuant to 5 U.S.C. 552b and 41 CFR 102-3.140 through 102-3.165, and the availability of space, this meeting is virtually open to the public. Dial-in availability is based on first-come, first-served basis. All members of the public who wish to attend the public meeting must contact the Designated Federal Officer, not later than 12:00 p.m. on Monday, September 7, 2020, as listed in the FOR FURTHER INFORMATION CONTACT section.

Written Statements: Pursuant to 41 CFR 102-3.105(j) and 102-3.140 and section 10(a)(3) of the FACA, interested persons may submit written statements to the Committee at any time about its approved agenda or at any time on the Committee's mission. Written statements should be submitted to the Committee's Designated Federal Officer at the address or facsimile number listed in the FOR FURTHER INFORMATION CONTACT section. If statements pertain to a specific topic being discussed at the planned meeting, then these statements must be submitted no later than five (5) business days prior to the meeting in question. Written statements received after this date may not be provided to or considered by the Committee until its next meeting. The Designated Federal Officer will review all timely submitted written statements and provide copies to all the committee members before the meeting that is the subject of this notice. Please note that since the Committee operates under the provisions of the FACA, all submitted comments and public presentations will be treated as public documents and will be made available for public inspection. Opportunity for public comments will be provided at the end of the meeting. Public comments will be limited to 5 minutes per person, as time allows.

Dated: August 10, 2020.
Aaron T. Siegel,
Alternate OSD Federal Register, Liaison Officer, Department of Defense.

[FR Doc. 2020-17773 Filed 8-13-20; 8:45 am]

BILLING CODE 5001-06-P